COMMISSION ON CIVIL RIGHTS

Agenda and Notice of Public Meeting of the Wisconsin Advisory Committee

Notice is hereby given, pursuant to the provisions of the rules and regulations of the U.S. Commission on Civil Rights (Commission), and the Federal Advisory Committee Act (FACA), that a briefing meeting of the Wisconsin Advisory Committee to the Commission will convene at 6 p.m. and adjourn at 9 p.m. on September 12, 2012, at the Sikh Temple of Wisconsin, 7512 South Howell Avenue, Oak Creek, WI. The purpose of the meeting is to gather testimony on the civil rights issues confronting the Sikh community in Wisconsin. Members of the Sikh community and scholars in the field will be giving presentations on the topic.

Members of the public are entitled to submit written comments; the comments must be received in the regional office by October 12, 2012. The address is 55 W. Monroe St., Suite 410, Chicago, IL 60603. Persons wishing to email their comments, or to present their comments verbally at the meeting, or who desire additional information should contact Carolyn Allen, Administrative assistant, (312) 353-8311 or by email: callen@usccr.gov.

Hearing-impaired persons who will attend the meeting and require the services of a sign language interpreter should contact the Regional Office at least ten (10) working days before the scheduled date of the meeting.

Records generated from this meeting may be inspected and reproduced at the Midwestern Regional Office, as they become available, both before and after the meeting. Persons interested in the work of this advisory committee are advised to go to the Commission's Web site, www.usccr.gov, or to contact the Midwestern Regional Office at the above email or street address.

The meeting will be conducted pursuant to the provisions of the rules and regulations of the Commission and FACA.

Dated in Washington, DC, August 24, 2011.
Peter Minarik,
Acting Chief, Regional Programs Coordination Unit.

[FR Doc. 2012-21381 Filed 8-29-12; 8:45 am]

BILLING CODE 6335-01-P